NUCLEAR REGULATORY COMMISSION

Advisory Committee on Reactor Safeguards, Subcommittee Meeting on Fire Protection; Notice of Meeting

The ACRS Subcommittee on Fire Protection will hold a meeting on September 9, 2003, Room T-2B3, 11545 Rockville Pike, Rockville, Maryland.

The entire meeting will be open to public attendance.

The agenda for the subject meeting shall be as follows:

Tuesday, September 9, 2003—8:30 a.m. until the conclusion of business.

The Subcommittee will discuss 10 CFR 50.48 rulemaking to permit licensees to voluntarily adopt National Fire Protection Association (NFPA) Standard 805, “Performance-Based Standard for Fire Protection for Light Water Reactor Electric Generating Plants, 2001 Edition,” as an alternative to existing fire protection requirements; the staff's approach for resolution of issues related to post-fire safe shutdown circuit analysis; development of fire dynamics tools for inspectors; a proposed rulemaking plan for post-fire operator manual actions; and related matters. The Subcommittee will hear presentations by and hold discussions with representatives of the NRC staff, the Nuclear Energy Institute (NEI), and other interested persons regarding this matter. The Subcommittee will gather information, analyze relevant issues and facts, and formulate proposed positions and actions, as appropriate, for deliberation by the full Committee.

Members of the public desiring to provide oral statements and/or written comments should notify the Designated Federal Official, Mr. Michael R. Snodderly (Telephone: 301-415-6927) or the Cognizant Staff Engineer, Mr. Marvin D. Sykes (Telephone: 301-415-8716) five days prior to the meeting, if possible, so that appropriate arrangements can be made. Electronic recordings will be permitted only during those portions of the meeting that are open to the public.

Further information regarding this meeting can be obtained by contacting the Designated Federal Official or the Cognizant Staff Engineer between 7:30 a.m. and 4:15 p.m. (e.t.). Persons planning to attend this meeting are urged to contact one of the above named individuals at least two working days prior to the meeting to be advised of any potential changes to the agenda.

Dated: August 13, 2003.
Sher Bahadur,
Associate Director for Technical Support, ACRS/ACNW.

[FR Doc. 03-21146 Filed 8-18-03; 8:45 am]

BILLING CODE 7590-01-P